ENVIRONMENTAL PROTECTION AGENCY

[FRL-8710-1]

Good Neighbor Environmental Board

AGENCY: Environmental Protection Agency (EPA).

ACTION: Notice of meeting.

SUMMARY: Under the Federal Advisory Committee Act, Public Law 92463, EPA gives notice of a meeting of the Good Neighbor Environmental Board (GNEB). The Board meets three times each calendar year at different locations along the U.S.-Mexico border and in Washington, DC. It was created by the Enterprise for the Americas Initiative Act of 1992. An Executive Order delegates implementing authority to the Administrator of EPA. The Board is responsible for providing advice to the President on environmental and infrastructure issues and needs within the States contiguous to Mexico. The statute calls for the Board to have representatives from U.S. Government agencies; the States of Arizona, California, New Mexico and Texas; tribal representation; and a variety of non-governmental officials. The purpose of this meeting is to hear presentations on local environmental issues as well as the theme selected for the Board's Twelfth Report: Innovation, including Incentives, to Prevent/Reduce Pollution at the U.S.-Mexico Border. The meeting also will include a public comment session and a business meeting on the second day. A copy of the meeting agenda will be posted at http://www.epa.gov/ocem/gneb.

DATES: The Good Neighbor Environmental Board will hold an open meeting on Wednesday, September 24 from 8:30 a.m. to 4 p.m. and Thursday, September 25, from 8:30 a.m. to 12 p.m.

ADDRESSES: The meeting will be held in El Camino Real Hotel in El Paso, Texas, located at 101 S. El Paso Street, El Paso, Texas, telephone: (915) 534-3000. It is open to the public, with limited seating on a first-come, first-served basis.

FOR FURTHER INFORMATION CONTACT: Lorena Cedeño-Zambrano, Acting Designated Federal Officer, cedeno-zambrano.lorena@epa.gov, 202-566-0978, U.S. EPA, Office of the Administrator (1601M), 1200 Pennsylvania Avenue, NW., Washington, DC 20460.

SUPPLEMENTARY INFORMATION: Requests to make brief oral comments or provide written statements to the GNEB should be sent to Lorena Cedeño-Zambrano, Acting Designated Federal Officer, at the contact information above.

Meeting Access: For information on access or services for individuals with disabilities, please contact Lorena Cedeño-Zambrano at the contact information above. To request accommodation of a disability, please contact Lorena Cedeño-Zambrano, preferably at least 10 days prior to the meeting, to give EPA as much time as possible to process your request.

Dated: August 19, 2008.
Lorena Cedeño-Zambrano,
Acting Designated Federal Officer.

[FR Doc. E8-20238 Filed 8-29-08; 8:45 am]

BILLING CODE 6560-50-P